ENVIRONMENTAL PROTECTION AGENCY

[EPA-HQ-OPP-2019-0448; FRL-9997-71]

Nominations to the Federal Insecticide, Fungicide, and Rodenticide Act Scientific Advisory Panel; Request for Comments

AGENCY: Environmental Protection Agency (EPA).

ACTION: Notice.

SUMMARY: This notice provides the names, addresses, and professional affiliations of persons recently nominated to serve on the Scientific Advisory Panel (SAP) established under section 25(d) of the Federal Insecticide, Fungicide, and Rodenticide Act (FIFRA). The Panel was created on November 28, 1975, and made a permanent Panel by amendment to FIFRA, dated October 25, 1988. The Agency, at this time, anticipates selecting three new members to serve on the panel because of membership terms that will expire during the next year. Public comments on the current nominations are invited, as these comments will be used to assist the Agency in selecting the new members for the chartered Scientific Advisory Panel.

DATES: Comments identified by docket ID number EPA-HQ-OPP-2019-0448, must be received on or before September 11, 2019.

ADDRESSES: Submit your comments, identified by docket identification (ID) number EPA-HQ-OPP-2019-0448, by one of the following methods:

• Federal eRulemaking Portal: https://www.regulations.gov. Follow the online instructions for submitting comments. Do not electronically submit any information you consider to be Confidential Business Information (CBI) or information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/contacts.html.

FOR FURTHER INFORMATION CONTACT: Steven Knott, M.S., Designated Federal Officer (DFO), Office of Science Coordination and Policy (7201M), Environmental Protection Agency, 1200 Pennsylvania Ave. NW, Washington, DC 20460-0001; telephone number: (202) 564-0103; email address: knott.steven@epa.gov.

SUPPLEMENTARY INFORMATION:

I. General Information

A. Does this action apply to me?

This action is directed to the public in general. This action may, however, be of interest to persons who are or may be required to conduct testing of chemical substances under the Federal Food, Drug, and Cosmetic Act (FFDCA) and FIFRA. Given other entities may also be interested, the Agency has not attempted to describe all the specific entities that may be affected by this action. If you have any questions regarding the applicability of this action to a particular entity, consult the DFO listed under FOR FURTHER INFORMATION CONTACT.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at https://www.epa.gov/dockets/comments.html.

II. Background

The FIFRA SAP serves as a scientific peer review mechanism of EPA's Office of Chemical Safety and Pollution Prevention (OCSPP) and is structured to provide independent scientific advice, information, and recommendations to the EPA Administrator on pesticides and pesticide-related issues as to the impact of regulatory actions on health and the environment. The FIFRA SAP is a federal advisory committee established in 1975 under FIFRA that operates in accordance with requirements of the Federal Advisory Committee Act (5 U.S.C. Appendix). The FIFRA SAP is composed of a permanent panel consisting of seven members who are appointed by the EPA Administrator from nominees provided by the National Institutes of Health (NIH) and the National Science Foundation (NSF). FIFRA established a Science Review Board (SRB) consisting of at least 60 scientists who are available to the FIFRA SAP on an ad hoc basis to assist in reviews conducted by the FIFRA SAP. As a scientific peer review mechanism, the FIFRA SAP provides comments, evaluations, and recommendations to improve the effectiveness and quality of analyses made by Agency scientists. Members of the FIFRA SAP are scientists who have sufficient professional qualifications, including training and experience, to provide expert advice and recommendations to the Agency.

The Agency, at this time, anticipates selecting three new members to serve on the panel because of membership terms that will expire during the next year. The Agency requested that NIH and NSF nominate experts for selection from the fields of ecological and human health risk assessment with specific expertise in mathematical biostatistics, ecotoxicology and environmental fate and transport of chemicals, and neurotoxicity (including developmental neurotoxicity). The Agency also noted that experts with specific experience in cheminformatics, bioinformatics, and genomics are preferred. Nominees should be well published and current in their fields of expertise.

III. Charter

A Charter for the FIFRA SAP, dated October 17, 2018, was issued in accordance with the requirements of the Federal Advisory Committee Act, Public Law 92-463, 86 Stat. 770 (5 U.S.C. Appendix). The Charter provides for open meetings with opportunities for public participation.

IV. Nominees

A. Qualifications of Members

Members are scientists who have sufficient professional qualifications, including training and experience, to provide expert comments on the impact of pesticides on human health and the environment. No persons shall be ineligible to serve on the FIFRA SAP by reason of their membership on any other advisory committee to a federal department or agency, or their employment by a federal department or agency (except the EPA). The Administrator appoints individuals to serve on the Panel for staggered terms of up to 3 years. Panel members are subject to the provisions of the Standards of Ethical Conduct for Employees of the Executive Branch at 5 Code of Federal Regulations Part 2635, conflict of interest statutes in Title 18 of the United States Code, and related regulations. Each nominee selected by the Administrator, before being formally appointed, is required to submit a confidential statement of employment and financial interest, which shall fully disclose, among other financial interests, the nominee's sources of research support, if any.

In accordance with section 25(d)(1) of FIFRA, the Administrator shall require nominees to the FIFRA SAP to furnish information concerning their professional qualifications, including educational background, employment history, and scientific publications. FIFRA further stipulates that the Agency publish the name, address, and professional affiliation of the nominees in the Federal Register.

B. Applicability of Existing Regulations

With respect to the requirements of section 25(d) of FIFRA that the Administrator promulgate regulations regarding conflicts of interest, FIFRA SAP members are subject to the provisions of the Standards of Ethical Conduct for Employees of the Executive Branch at 5 Code of Federal Regulations Part 2635, conflict of interest statutes in Title 18 of the United States Code, and related regulations.

C. Process of Obtaining Nominees

In accordance with the provisions of section 25(d) of FIFRA, EPA, on February 25, 2019, requested that the NIH and the NSF nominate scientists to fill vacancies occurring on the FIFRA SAP. The Agency requested nominations of experts in the fields of ecological and human health risk assessment with specific expertise in mathematical biostatistics, ecotoxicology and environmental fate and transport of chemicals, and neurotoxicity (including developmental neurotoxicity). The Agency also noted that experts with specific experience in cheminformatics, bioinformatics, and genomics are preferred. NIH and NSF responded, providing the Agency with a total of 35 nominees. Two nominees, Dr. Dana Barr of Emory University and Dr. Marion Ehrich of Virginia Tech, are recent members of the FIFRA SAP and, therefore, were not considered further for membership at this time. Of the remaining 33 nominees, 15 are interested and available to actively participate in FIFRA SAP meetings (see Section IV.D.). The following 18 individuals are not available:

1. David Allison, Ph.D., Indiana University, Bloomington, Indiana.

2. Asa Bradman, Ph.D., University of California, Berkeley, California.

3. Alex Buerkle, Ph.D., University of Wyoming, Laramie, Wyoming.

4. Atul Butte, M.D., Ph.D., University of California, San Francisco, California.

5. Lucio Costa, Ph.D., University of Washington, Seattle, Washington.

6. Rebecca Doerge, Ph.D., Carnegie Mellon University, Pittsburgh, Pennsylvania.

7. Elaine Faustman, Ph.D.., University of Washington, Seattle, Washington.

8. Jodi Flaws, Ph.D., University of Illinois, Urbana-Champaign, Illinois.

9. Brandon Gaut, Ph.D., University of California, Irvine, California.

10. Phillipe Grandjean, M.D., Harvard University, Boston, Massachusetts.

11. Linda Lee, Ph.D., Purdue University, West Lafayette, Indiana.

12. Mary Kay O'Rourke, Ph.D., University of Arizona, Tucson, Arizona.

13. Virginia Rauh, Ph.D., Columbia University, New York, New York.

14. Rick Relyea, Ph.D., Rensselaer Polytechnic Institute, Troy, New York.

15. Diane Rohlman, Ph.D., University of Iowa, Iowa City, Iowa.

16. Jason Rohr, Ph.D., University of Notre Dame, Notre Dame, Indiana.

17. Caroline Tanner, Ph.D., University of California, San Francisco, California.

18. Cari Vanderpool, Ph.D., University of Illinois, Urbana-Champaign, Illinois.

D. Interested and Available Nominees

Following are the names, addresses, and professional affiliations of current nominees being considered for membership on the FIFRA SAP. Selected biographical data for each nominee is available in the public docket at www.regulations.gov (ID number EPA-HQ-OPP-2019-0448) and through the FIFRA SAP website at https://www.epa.gov/sap. The Agency anticipates selecting three individuals to fill vacancies occurring during the next year.

1. Jeffrey Bloomquist, Ph.D.: Professor, Entomology and Nematology Department, Emerging Pathogens Institute, University of Florida, Gainesville, Florida.

2. Maria Braga, D.D.S., Ph.D.: Professor, Department of Anatomy, Physiology and Genetics, Uniformed Services University of the Health Sciences, Bethesda, Maryland.

3. Joseph Braun, R.N., M.S.P.H., Ph.D.: Associate Professor, Department of Epidemiology, Brown University, Providence, Rhode Island.

4. Celia Chen, Ph.D.: Director, Dartmouth Toxic Metals Superfund Research Program and Research Professor, Department of Biological Sciences, Dartmouth College, Hanover, New Hampshire.

5. Susan Fisher, Ph.D.: Professor Emerita, Department of Entomology, Ohio State University, Columbus, Ohio.

6. Jean Harry, M.S., Ph.D.: Group Leader, Neurotoxicology Laboratory, National Toxicology Program, National Institute of Environmental Health Sciences, Research Triangle Park, North Carolina.

7. Tyrone Hayes, Ph.D.: Professor, Department of Integrative Biology, University of California, Berkeley, California.

8. Lucille Lange, Ph.D.: Research Psychologist, US Army Medical Research Institute of Chemical Defense, Aberdeen Proving Ground, Maryland.

9. James Lauderdale, Ph.D.: Associate Professor, Department of Cellular Biology, University of Georgia, Athens, Georgia.

10. Maureen Lichtveld, M.D., M.P.H.: Professor and Chair, Department of Global Environmental Health Sciences, School of Public Health and Tropical Medicine, Tulane University, New Orleans, Louisiana.

11. Lorenz Neuwirth, Ph.D.: Assistant Professor, Department of Psychology and the Neuroscience Research Institute, State University of New York (SUNY), Old Westbury, New York.

12. Edna Pereira, Ph.D.: Associate Professor, Department of Epidemiology and Public Health and Director, Division of Translational Toxicology, University of Maryland School of Medicine, Baltimore, Maryland.

13. Rebecca Smith, D.V.M., M.S., Ph.D.: Assistant Professor, Department of Pathobiology, College of Veterinary Medicine, University of Illinois, Urbana-Champaign, Illinois.

14. John Swaddle, Ph.D.: Professor and Chair, Biology Department, College of William & Mary, Williamsburg, Virginia.

15. Christopher Weis, Ph.D.: Toxicology Liaison, National Toxicology Program, National Institute of Environmental Health Sciences, Bethesda, Maryland.

Authority: 7 U.S.C. 136 et. seq.; 21 U.S.C. 301 et seq.

Dated: August 2, 2019.
Hayley Hughes,
Director, Office of Science Coordination and Policy.

[FR Doc. 2019-17150 Filed 8-9-19; 8:45 am]

BILLING CODE 6560-50-P